FEDERAL COMMUNICATIONS COMMISSION

Notice of Public Information Collection(s) Being Reviewed by the Federal Communications Commission

December 13, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 23, 2002. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at 202-418-0214 or via the Internet at jboley@fcc.gov.

SUPPLEMENTARY INFORMATION:

OMB Control No.: 3060-0391.

Title: Program to Monitor the Impacts of the Universal Service Support Mechanism, CC Docket Nos. 98-2002 and 96-45.

Form No.: N/A.

Type of Review: Revision of a currently approved collection.

Respondents: Business or other for-profit.

Number of Respondents: 900 respondents; 1,439 responses.

Estimated Time Per Response: 40 minutes to 1.5 hours.

Frequency of Response: Annual reporting requirement and third party disclosure requirement.

Total Annual Burden: 1,716.

Total Annual Cost: N/A.

Needs and Uses: The Commission has a program to monitor the impacts of the universal service support mechanisms. The program requires periodic reporting by telephone companies and the universal service administrator. The information is used by the Commission, Federal-State Joint Boards, Congress, and the general public to assess the impacts of the decisions of the Commission and Joint Boards. This information collection has been revised because several data elements contained in the monitoring program were eliminated due to access reform.

OMB Control No.: 3060-0823.

Title: Pay Telephone Reclassification, Memorandum Opinion and Order, CC Docket No. 96-128.

Form No.: N/A.

Type of Review: Extension of a currently approved collection.

Respondents: Business or other for-profit.

Numbers of Respondents: 400.

Estimated Time Per Response: 2 to 35 hours.

Frequency of Response: On occasion reporting requirement; recordkeeping requirement; and third part disclosure requirement.

Total Annual Burden: 400 hours.

Total Annual Cost: $480,000.

Needs and Use: In the Memorandum Opinion and Order issued in CC Docket No. 96-128, the Commission clarified requirements established in the Payphone Orders for the provision of payphone-specific coding digits by LECs and PSPs, to IXCs, beginning October 7, 1997. Specifically, the Order clarified that only FLEX ANI complies with the requirements; required that LECs file tariffs to FLEX ANI as a nonchargeable option to IXCs; required that LECs file tariffs to recover costs associated with implementing FLEX ANI; and grants permission and certain waivers. This is an extension of a currently approved collection. The Commission is seeking approval to extend this collection for three years, as required by the Paperwork Reduction Act.

Federal Communications Commission.
Magalie Roman Salas,
Secretary.

[FR Doc. 01-31863 Filed 12-27-01; 8:45 am]

BILLING CODE 6712-01-M